FEDERAL COMMUNICATIONS COMMISSION

47 CFR Part 64

[CG Docket No. 03-123; DA 08-1589]

Consumer and Governmental Affairs Bureau Clarifies the Transferability of Telecommunications Relay Service (TRS) Provider Certification

AGENCY: Federal Communications Commission.

ACTION: Clarification.

SUMMARY: In this document, the Consumer and Governmental Affairs Bureau (Bureau) responds to requests for guidance concerning the transferability of Commission certification of Internet-based TRS providers as eligible for compensation from the Interstate TRS Fund (Fund). The Bureau clarifies that such certification is not transferable.

FOR FURTHER INFORMATION CONTACT: Gregory Hlibok, Consumer and Governmental Affairs Bureau, Disability Rights Office at (800) 311-4381 (voice), (202) 418-0431 (TTY), or e-mail at Gregory.Hlibok@fcc.gov.

SUPPLEMENTARY INFORMATION: This is a summary of the Commission's document DA 08-1589, released July 3, 2008 in CG Docket No. 03-123. The full text of document DA 08-1589 and copies of any subsequently filed documents in this matter will be available for public inspection and copying during regular business hours at the FCC Reference Information Center, Portals II, 445 12th Street, SW., Room CY-A257, Washington, DC 20554. Document DA 08-1589 and copies of subsequently filed documents in this matter also may be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer and Governmental Affairs Bureau at (202) 418-0530 (voice) or (202) 418-0432 (TTY). Document DA 08-1589 also can be downloaded in Word or Portable Document Format (PDF) at: http://www.fcc.gov/cgb/dro/trs.html#orders.

Synopsis

There are several forms of TRS, including three that are Internet-based TRS: Video Relay Service (VRS), Internet Protocol (IP) Relay (IP Relay), and IP captioned telephone service (IP CTS). The Bureau has received requests for guidance concerning the transferability of Commission certification of Internet-based TRS providers as eligible for compensation from the Fund, pursuant to the provider certification rules contained in 47 CFR 64.606 (as redesignated at 73 FR 21259, Apr. 21, 2008). The Bureau clarifies that such certification is not transferable. Therefore, in the event that an entity not certified pursuant to 47 CFR 64.606 purchases, acquires, or merges with another TRS provider, the acquiring or surviving provider must be certified under 47 CFR 64.606 (or otherwise eligible for compensation from the Fund) before it can receive payments from the Fund. Because the Commission certifies providers based on the attestations of their owners or their representatives, who are ultimately responsible for compliance with the Commission's rules, the certification of a provider does not automatically transfer to new owners.

On the other hand, if an entity that is certified pursuant to 47 CFR 64.606 purchases, acquires, or merges with another TRS provider, the acquiring or surviving provider need only notify the Commission of the change in its TRS program and provision of service within 60 days pursuant to 47 CFR 64.606(f)(2). Under this rule, the acquiring or surviving company must notify the Commission of the changes to its program and provision of service that result from the acquisition and “must certify that the interstate TRS provider continues to meet federal minimum standards.” To meet the latter requirement, the provider may either certify that the responses provided in its initial certification application upon which the Commission based certification remain accurate, or describe any changes and certify their compliance with the Commission's rules.

Federal Communications Commission.
Nicole McGinnis,
Deputy Chief, Consumer and Governmental Affairs Bureau.

[FR Doc. E8-17919 Filed 8-4-08; 8:45 am]

BILLING CODE 6712-01-P